DEPARTMENT OF HEALTH AND HUMAN SERVICES

Centers for Disease Control and Prevention

[60-Day 12-12BZ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 639-5960 and send written comments to Daniel Holcomb, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Residential Care Facility and Adult Day Service Center Components of the National Study of Long-Term Care Providers—NEW—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources * * * [and] utilization of health care, including extended care facilities, and other institutions.”

NCHS seeks approval to collect data for the residential care facility (RCF) and adult day services center (ADSC) components of a planned new survey, the National Study of Long-Term Care Providers (NSLTCP). A two year clearance is requested.

As background here are some details on the plans for the whole study, of which this data collection is two components. The entire NSLTCP is being designed to: (1) Broaden NCHS' ongoing coverage of paid, regulated long-term care (LTC) providers; (2) merge with existing administrative data on LTC providers (i.e. Centers for Medicare and Medicaid Services (CMS) data on nursing home, home health, and hospice care); (3) update data more frequently on LTC providers for which nationally representative administrative data do not exist; and (4) enable comparisons across LTC provider types and monitor the supply and use of these providers.

The data will be collected in the 50 states and the District of Columbia from two types of LTC facilities: 9,450 RCFs and 4,601 ADSCs. The data to be collected include the basic characteristics, services, staffing, and practices of RCFs and ADSCs, and aggregate-level distributions of the demographics, physical functioning, and cognitive functioning of RCF and ADSC care recipients.

Expected users of data from this collection effort include, but are not limited to CDC; other Department of Health and Human Services (DHHS) agencies, such as the Office of the Assistant Secretary for Planning and Evaluation and the Agency for Healthcare Research and Quality; associations, such as LeadingAge (formerly the American Association of Homes and Services for the Aging), National Center for Assisted Living, American Seniors Housing Association, Assisted Living Federation of America, and National Adult Day Services Association; universities; foundations; and other private sector organizations.

Expected burden from data collection is 45 minutes per respondent for a total of 5,270 hours. There is no cost to respondents other than their time to participate.

Estimated Annualized Burden Table
Type of respondent | Form name | Number of respondents | Number of responses | Average burden/ response (in minutes) | Response burden (in hours)
RCF Director | RCF Questionnaire | 4,725 | 1 | 45/60 | 3,544
ADSC Director | ADSC Questionnaire | 2,301 | 1 | 45/60 | 1,726
Total |  |  |  |  | 5,270

Dated: December 9, 2011.
Daniel Holcomb,
Reports Clearance Officer, Centers for Disease Control and Prevention.

[FR Doc. 2011-32202 Filed 12-15-11; 8:45 am]

BILLING CODE 4163-18-P